DEPARTMENT OF AGRICULTURE

Grain Inspection, Packers and Stockyards Administration

Cancellation of Minnesota's Delegation

AGENCY: Grain Inspection, Packers and Stockyards Administration, USDA.

ACTION: Notice.

SUMMARY: The United States Grain Standards Act, as amended (Act), provides for state agency delegations at export port locations within a state. The Minnesota Department of Agriculture (Minnesota) is delegated to provide official export inspection and weighing services. Minnesota requested that they cease providing official services on April 2, 2007. Accordingly, Grain Inspection, Packers and Stockyards Administration, USDA (GIPSA) is announcing that Minnesota's delegation will be cancelled effective April 2, 2007.

DATES: Effective April 2, 2007.

ADDRESSES: USDA, GIPSA, Karen Guagliardo, Chief, Review Branch, Compliance Division, STOP 3604, room 1647-S, 1400 Independence Ave., SW., Washington, DC 20250-3604.

FOR FURTHER INFORMATION CONTACT: Karen Guagliardo at 202-720-8262, e-mail Karen.W.Guagliardo@usda.gov.

SUPPLEMENTARY INFORMATION: This action has been reviewed and determined not to be a rule or regulation as defined in Executive Order 12866 and Departmental Regulation 1512-1; therefore, the Executive Order and Departmental Regulation do not apply to this action.

Section 7(e)(2) of the Act authorizes GIPSA' Administrator to delegate authority to a qualified State agency to perform all or specified functions involved in official inspection at export port locations within the state. Minnesota has been delegated authority to provide official export and weighing services since April 7, 1978. On January 2, 2007, Minnesota requested that they cease providing official services on April 2, 2007. Accordingly, Minnesota's delegation will be cancelled. For export services in Minnesota after April 2, 2007, contact David Mundwiler, Field Office Manager, Toledo, Ohio, telephone number 419-259-6276.

Authority: 7 U.S.C. 71 et seq.

Pat Donohue-Galvin,
Acting Administrator, Grain Inspection, Packers and Stockyards Administration.

[FR Doc. E7-3646 Filed 3-1-07; 8:45 am]

BILLING CODE 3410-KD-P